DEPARTMENT OF THE TREASURY

Agency Information Collection Activities; Submission for OMB Review; Comment Request; State Election of Qualified Health Insurance for Health Coverage Tax Credit (HCTC)

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 6, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

Title: State Election of Qualified Health Insurance for Health Coverage Tax Credit (HCTC).

OMB Control Number: 1545-1875.

Type of Review: Extension without change of a currently approved collection.

Description: Revenue Procedure 2004-12 informs states how to elect a health program to be qualified health insurance for purposes of the health coverage tax credit (HCTC) under section 35 of the Internal Revenue Code. The collection of information is voluntary. However, if a state does not make an election, eligible residents of the state may be impeded in their efforts to claim the HCTC.

Form: None.

Affected Public: State governments.

Estimated Number of Respondents: 51.

Frequency of Response: Once.

Estimated Total Number of Annual Responses: 51.

Estimated Time per Response: 30 minutes.

Estimated Total Annual Burden Hours: 26.

(Authority: 44 U.S.C. 3501 et seq.)

Dated: May 28, 2021.
Spencer W. Clark,
Treasury PRA Clearance Officer.

[FR Doc. 2021-11696 Filed 6-2-21; 8:45 am]

BILLING CODE 4830-01-P